DEPARTMENT OF DEFENSE

Department of the Air Force

U.S. Air Force Scientific Advisory Board Notice of Meeting

AGENCY: Department of the Air Force, U.S. Air Force Scientific Advisory Board, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) meeting will take June 16 and 17, 2011 at General Bill Creech Conference Center, 190 Dodd Blvd., Suite 200, Langley AFB, VA 23665-2788. The meeting on Thursday, June 16, will be from 7:30 a.m.-4:45 p.m. The meeting on Friday, June 17, will be from 7:30 a.m.-11:30 a.m.

The purpose of the meeting is to hold the SAB quarterly meeting to conduct classified discussions on the various missions of Langley Air Force Base, how capabilities are used in the field, how this information relates to the FY11 SAB studies tasked by the SECAF, and to reach consensus and vote on the findings for the FY11 studies.

The results will also be briefed to USAF senior leadership during the last day of the meeting. This year's studies were: Sustaining Air Force Aging Aircraft into the 21st Century, Munitions for the 2025+ Environment and Force Structure, and Sensor Data Exploitation.

Pursuant to 5 U.S.C. 552b, as amended, and 41 CFR 102-3.155, the Administrative Assistant to the Secretary of the Air Force, in consultation with the Office of the Air Force General Counsel, has agreed that all sessions of the United States Air Force Scientific Advisory Board meeting be closed to the public, but include input provided by the public. The meeting will concern classified information and matters covered by sections 5 U.S.C. 552b(c)(1) and (4). The only exception will be the Banquet the evening of Thursday, June 16, which will be open to the public.

Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt Col Anthony M. Mitchell, 301-981-7135, United States Air Force Scientific Advisory Board, 1602 California Ave., Ste. #251, Andrews AFB, MD 20762, anthonym.mitchell@pentagon.af.mil.

Bao-Anh Trinh,
Air Force Federal Register Liaison Officer.

[FR Doc. 2011-11907 Filed 5-13-11; 8:45 am]

BILLING CODE 5001-10-P